DEPARTMENT OF HOMELAND SECURITY

[Docket No. DHS-2025-0013]

Request for Public Input on Experiences With FEMA Disaster Responses

AGENCY: Office of Partnership and Engagement (OPE), Department of Homeland Security (DHS).

ACTION: Request for Information (RFI).

SUMMARY: The Federal Emergency Management Agency (FEMA) Review Council requests information and comments from the public and other interested stakeholders to gain an understanding of their experience with FEMA during disasters. The public information and comments will ensure that the FEMA Review Council's findings and recommendations are informed by a broad spectrum of perspectives, experiences, and ideas.

DATES: Comments on this notice must be received by May 15, 2025, to be assured of consideration.

ADDRESSES: The FEMA Review Council invites submission of the requested information through one of the following methods:

• Federal eRulemaking Portal: http://www.regulations.gov. Follow the instructions for submitting comments.

• Email: FEMAreviewcouncil@hq.dhs.gov. Include Docket No. DHS-2025-0013 in the subject line of the message.

• Mail: Patrick Powers, Designated Federal Officer of the Federal Emergency Management Agency Review Council, Office of Partnership and Engagement, Mailstop 0385, Department of Homeland Security, 2707 Martin Luther King Jr Ave. SE, Washington, DC 20032.

Instructions: Response to this RFI is voluntary. All comments submitted in response to this RFI will be included in the record and will be made available to the public. Please be advised that the substance of the comments and the identity of the individuals or entities submitting the comments will be subject to public disclosure. The FEMA Review Council will make the comments publicly available via https://www.regulations.gov.

FOR FURTHER INFORMATION CONTACT: Patrick Powers, Designated Federal Officer, FEMA Review Council at (202) 891-2283 or FEMAreviewcouncil@hq.dhs.gov.

SUPPLEMENTARY INFORMATION: On January 24, 2025, the President established the Federal Emergency Management Agency Review Council (FEMA Review Council) through Executive Order 14180, “Council to Assess the Federal Emergency Management Agency”. https://www.whitehouse.gov/presidential-actions/2025/01/council-to-assess-the-federal-emergency-management-agency/.

Request for Information

FEMA Review Council requests information from the public and other interested stakeholders to help identify potential programmatic and organizational improvements to FEMA, informed by experiences with FEMA in disasters.

Potential questions for consideration are:

1. Describe your experience with FEMA's response to your request for assistance. Was FEMA's response timely and efficient to assist in your recovery?

2. Describe your overall experience with FEMA. Was your interaction with FEMA positive or negative? Please fully explain your experience.

3. By what means did you apply for benefits—was it online, in person, or over the phone? Did you encounter any difficulties?

4. Were local or state authorities or private groups able to provide assistance in a more timely or efficient way than FEMA? Please fully describe your experience.

5. What recommendations would you like the Council to make?

Please include any relevant data sources. The response to this RFI is voluntary, and the public is welcome to provide additional information that may be relevant to seeking information on experiences with FEMA.

Responses may not exceed five (5) pages per respondent and should focus on addressing the requested information described above. Please do not submit applications, proposals, resumes or promotional materials. The submission shall be written in English. Any information obtained from this RFI is intended to be used by the Government on a non-attribution basis for findings and recommendations to the President. This RFI does not constitute a formal solicitation for proposals or abstracts. Your response to this notice will be treated as information only. DHS will not reimburse any costs incurred in responding to this RFI. Respondents are advised that DHS is under no obligation to acknowledge receipt of the information received or provide feedback to respondents with respect to any information submitted under this RFI. Responses to this RFI do not bind DHS to any further actions related to this topic. Responses will become government property.

No confidential information, such as confidential business information or proprietary information, should be submitted in comments for this RFI. Comments received in response to this notice will be a matter of public record and will be made available for public inspection and posted without change and as received, including any business information or personal information provided in the comments, such as names and addresses. Please do not include anything in your comment submission that you do not wish to share with the public.

Dated: March 20, 2025.
Patrick Powers,
Designated Federal Officer, Federal Emergency Management Agency Review Council, Department of Homeland Security.

[FR Doc. 2025-05057 Filed 3-25-25; 8:45 am]

BILLING CODE 9112-FN-P